SMALL BUSINESS ADMINISTRATION

SBA Council on Underserved Communities

AGENCY: U.S. Small Business Administration.

ACTION: Notice of open Federal advisory committee meeting.

SUMMARY: The SBA is issuing this notice to announce the location, date, time, and agenda for the first meeting of the SBA Council on Underserved Communities Advisory Council. The meeting will be open to the public.

DATES: The meeting will be held on Monday, May 7 from 1 to 5 p.m. Central Time Zone.

ADDRESSES: The meeting will be held at the SBA Kansas City District Office located at 1000 Walnut Street, Suite 500, Kansas City, MO 64106.

SUPPLEMENTARY INFORMATION: Pursuant to section 10(a)(2) of the Federal Advisory Committee Act (5 U.S.C., Appendix 2), SBA announces the meeting of the SBA Council on Underserved Communities. The SBA Council on Underserved Communities is tasked with providing advice, ideas and opinions on SBA programs and services and issues of interest to small businesses in underserved communities.

The purpose of the meeting is to discuss with the council the current status of small business across the United States and to discuss the agency's programs and initiatives especially in regards to underserved communities. The agenda includes an update of SBA's most recent programs and initiatives from Deputy Administrator Marie Johns as well as a meeting open to the public to hear from the members of the council.

FOR FURTHER INFORMATION CONTACT: The meeting is open to the public however advance notice of attendance is requested. Anyone wishing to attend and/or make a presentation to the SBA Council on Underserved Communities should please contact Nicole Nelson by May 3rd 2010, by fax or email in order to be placed on the agenda.

Nicole Nelson, SBA's Office of Entrepreneurship Education, SBA Headquarters.

Email: nicole.nelson@sba.gov.

Phone: (202) 205-7540, Fax: (202) 481-0215.

Additionally, if you need accommodations because of a disability or require additional information, please contact Robbie Moore, Program Support Assistant at the SBA Kansas City District Office. Phone (816-426-4933); Email: robbie.moore@sba.gov.

Dated: Monday, April 23, 2012.
Dan Jones,
SBA Committee Management Officer.

[FR Doc. 2012-10419 Filed 4-30-12; 8:45 am]

BILLING CODE P